DEPARTMENT OF HEALTH AND HUMAN SERVICES

Final HHS National Environmental Policy Act Compliance Procedures to Incorporate Federal Flood Risk Management Standard Procedures

AGENCY: Assistant Secretary for Administration, Department of Health and Human Services (HHS).

ACTION: Notice; final procedures.

SUMMARY: In accordance with Executive Order 13690 of January 30, 2015—Establishing a Federal Flood Risk Management Standard and Process for Soliciting and Considering Stakeholder Input, HHS is publishing its final floodplain management procedures to include climate science if an action takes place in a floodplain.

DATES: The final procedures are in effect on the May 1, 2024.

FOR FURTHER INFORMATION CONTACT: CAPT Leo Angelo Gumapas, Environmental Engineering Program Chief, at 202-669-6942 or by email at leoangelo.gumapas@psc.hhs.gov, for clarification of content.

SUPPLEMENTARY INFORMATION:

Background

E.O. 13690 of January 30, 2015—Establishing a Federal Flood Risk Management Standard and a Process for Further Soliciting and Considering Stakeholder Input—was issued to improve the nation's resilience to flooding and to better prepare for the impacts of climate change. In amending and building upon E.O. 11988—Floodplain Management—which was issued in 1977, E.O. 13690 and the associated Federal Flood Risk Management Standard (FFRMS) reinforce the important tenets and concepts articulated in E.O. 11988, such as avoiding actions in or impacting a floodplain and minimizing potential harm if an action must be located in a floodplain. When avoiding a floodplain is not possible, E.O. 13690 calls for agencies to improve the resilience of communities and federal actions.

On August 15, 2017, E.O. 13807 was issued, which revoked E.O. 13690. Accordingly, the “Revised Guidelines for Implementing Executive Order 11988, Floodplain Management” and its supplementary policy were withdrawn. On May 20, 2021, E.O. 14030, reinstated E.O. 13690 and all supplementary policies.

HHS's current floodplain management procedures are published in the General Administration Manual Part 30: Environmental Protection (GAM-30) section 30-40-40 Floodplain Management, and they are based on E.O. 11988. The GAM-30 was last updated on February 25, 2000, and it is based on outdated laws and regulations. Program Support Center (PSC) | Real Estate, Logistics, Operations (RLO) | Real Property Management Service (RPMS) | Real Property Policy and Strategy (RPPS) drafted HHS FFRMS procedures based on E.O. 13690 to update GAM-30 Section 30-40-40 Floodplain Management.

The Council on Environmental Quality (CEQ) reviewed HHS's FFRMS procedures and provided favorable comments on December 2022.

HHS published its FFRMS procedures on the Federal Register for public comment for a thirty-day period from November 6, 2023 to December 6, 2023. HHS FFRMS procedures were viewed 128 times with no comments received over the thirty-day comment period.

Procedure Revisions

Revised General Administration Manual, HHS Part 30, Environmental Protection

Part 30—Environmental Protection

30-40 Natural Asset Review

30-40-40 Floodplain Management

Purpose: Executive Order (E.O.) 13690 on Establishing a Federal Flood Risk Management Standard (FFRMS) and a Process for Further Soliciting and Considering Stakeholder Input (2015), establishes a Federal Flood Risk Management Standard to ensure each Federal agency takes actions to enhance the Nation's resilience to current and future flooding and better prepare the United States for the impacts of climate change, such as sea level rise and extreme weather events. E.O. 13690 and the associated FFRMS amended and built upon E.O. 11988 on Floodplain Management (1977), which requires agencies to take action to reduce the risk of flood loss, to minimize the impacts of floods on human safety, health, and welfare, and to restore and preserve the natural and beneficial values served by floodplains. E.O. 13690 modernizes E.O. 11988 by increasing the vertical flood elevation and expanding corresponding horizontal extent of the floodplain to consider changing flood hazards due to climate change and other processes, and by encouraging climate-conscious resilient design if there are no practicable locations outside the expanded floodplain.

Definitions

Base Flood. “Base Flood” means that flood which has a one percent of greater chance of occurrence in any given year.

Base Flood Elevation (BFE). “BFE” means the computed elevation to which the floodwater is anticipated to rise during the base flood.

Base Floodplain. “Floodplain” means the area subject to flooding by the base flood, the flood that has a one percent or greater chance of flooding in any given year.

Climate-Informed Science Approach (CISA). “CISA” means the flood hazard area (vertical flood elevation and corresponding horizontal extent) that results from using the best-available, actionable hydrologic and hydraulic data and methods that integrate current and future changes in flooding based on climate science.

Critical Action. “Critical Action” means any activity for which even a slight chance of flooding is too great, e.g., elderly housing proposals.

Federal Flood Risk Management Standard (FFRMS). “FFRMS” means the floodplain determined using one of the three approaches: CISA, 0.2PFA, and FVA.

Freeboard Value Approach (FVA). “FVA” means the flood hazard area that results from adding an additional 2 feet to the BFE and expanding to the corresponding horizontal extent for non-critical actions, and by adding an additional 3 feet to the BFE and expanding to the corresponding horizontal extent for critical actions.

Horizontal Extent. “Horizontal Extent” means the horizontal land area flooded by the vertical extent (extra flood elevation beyond the BFE).

Nature-Based Approach. HHS OPDIVs/STAFFDIVs, where possible, must use natural systems, ecosystem processes, and natural features and nature-based approaches in development of alternatives for proposed action.

Vertical Extent. “Vertical Extent” means the additional flood height above the BFE. 0.2-Percent-Annual-Chance (500-year) Flood Approach (0.2PFA). “0.2PFA” means the area subject to flooding by the 0.2-percent annual chance flood.

Responsibilities: Each OPDIV/STAFFDIV has the responsibility under E.O. 13690 to act on Federally Funded Projects to reduce the risk of flood loss, to minimize the impact of floods on human safety, health, and welfare, and to restore and preserve the natural and beneficial values served by floodplains in carrying out its responsibilities for:

Acquiring, managing, and disposing of Federal lands and facilities

Providing Federally undertaken, financed, or assisted construction, substantial improvements, and substantial damages to structures and facilities

Conducting Federal activities and programs affected land use, including but not limited to, water and related land resources planning, regulating, and licensing activities.

Each OPDIV/STAFFDIV shall determine whether the site in which their action would occur could potentially be inundated by floodwaters using FFRMS and shall use this information to make an informed decision to either avoid siting in the determined flood hazard area or design the action to be more resilient to the associated flood hazard. Each OPDIV/STAFFDIV shall evaluate the potential effects of any actions it may take in a FFRMS floodplain in accordance with the floodplain assessment procedures in this section. It must also ensure that its planning programs and budget requests reflect consideration of flood hazards and floodplain management.

Integration with NEPA. OPDIVs/STAFFDIVs are to evaluate the potential effects of a proposed action in a floodplain in accordance with the procedures for National Environmental Policy Act (NEPA) review in HHS General Administration Manual Part 30-50. If an environmental assessment (EA) or environmental impact statement (EIS) is required to be prepared for the proposed action, a floodplain assessment as described Paragraph E of this section, shall be included in the EA or EIS.

Floodplain Assessment (E.O. 13690)

Determine if Proposed Action is in a FFRMS floodplain: First, determine if Federally Funded Project is a critical action, which impacts floodplain determinations for the FVA approach. Second, evaluate the vertical extent and corresponding horizontal extent to establish the FFRMS floodplain using one of the three approaches in the following is the order of preference pending data availability:

CISA

0.2PFA

FVA

Involve Public in Decision-making Process: Notify the public such as a notice in a local newspaper or posting in an accessible public space for the area where the action is under consideration. Public notifications and all supporting communications and activities should be accessible to all (e.g., plain language, culturally responsive, and accommodating), including but not limited to those with disabilities or limited English proficiency. All public notifications are required to follow all guidance and regulation regarding 508 compliance, the use of plain language, and limited English proficiency. If completing an EA or EIS, then include floodplain notice in Description of Proposed Action and Alternatives or Notice of Intent, respectively.

Identify and Evaluate Practicable Alternatives to Locating in FFRMS Floodplain: OPDIVs/STAFFDIVs shall use input from public comments on practicable alternatives, including, if possible, nature-based solutions.

Identify Adverse and Beneficial Impacts: Identify adverse and beneficial impacts, including stimulating floodplain development, which may result from the project. Analyze the following factors: (1) Natural environment (water resources, hydrology, topography, habitat); (2) Social concerns (environmental justice, visual quality/aesthetics, historic and cultural values, land use patterns), (3) Economic Aspects (costs of construction, transportation, relocation, natural features, and ecosystem processes), and (4) Legal considerations (deeds, leases).

Mitigate Adverse Impacts: Minimize impacts identified and restore and preserve the beneficial values served by floodplains. The analysis shall discuss the following:

Alternatives to the proposed action that may avoid adverse effects and incompatible development in the floodplain, including the alternatives of no action or location at an alternate site.

Proposed buildings and structures located in FFRMS floodplain shall be programmed and designed to latest version of the American Society of Civil Engineers “Flood Resistant Design and Construction” (ASCE/SEI 24-14) provisions to mitigate the adverse effects of the proposed action.

Senior Real Property Official Approval: No action shall take place involving HHS Federal Real Property in an FFRMS floodplain without a finding by the Senior Real Property Officer that the only practicable alternative consistent with the law and with the policy set forth in E.O. 13690 requires siting in a FFRMS floodplain. The action involving HHS Federal Real Property proposed for Senior Real Property Official approval shall be designed to minimize potential harm to or within the FFRMS floodplain. The Senior Real Property Official shall approve proposed actions requiring an EA or EIS on projects involving HHS Federal Real Property affecting FFRMS floodplains.

Re-Evaluate Alternatives: Use any new information obtained from Public Notice to determine if the proposed project is still applicable. Reissue public notice with Finding of No Significant Impact or Record of Decision if EA or EIS is drafted, respectively.

Announce and Explain Decision to the Public (Notice): Notify the public of the draft decision by publishing such as a notice in a local newspaper or posting in an accessible public space, dating the notice and the posting at removal.

For programs subject to E.O. 12372, the public notice shall be sent to the appropriate state and local reviewing agencies the geographic areas affected. A public review period of 30 days after the issuance of the public notice shall be allotted before any action is taken.

Implement the Proposed Federally Funded Project: Implement the Federally Funded Project with appropriate mitigation measures. Design and construction contracts shall include any mitigation measures are identified through the process. Ensure through independent 3rd party construction quality assurance that mitigation measures are fully implemented.

Licenses, permits, loans, or grants: Each OPDIV/STAFFDIV shall take FFRMS into account when formulating or evaluating any water and land use plans and shall require land and water resources use appropriate risk management measures to mitigate the degree of hazard involved. Adequate provision shall be made for the evaluation and consideration of flood hazards determined by FFRMS for the licenses, permits, loan, or grant-in-aid programs that an OPDIV/STAFFDIV administers. OPDIVs/STAFFDIVs shall also encourage and provide appropriate guidance to applicants to evaluate the effects of their proposal in FFRMS floodplains prior to submitting applications for Federal licenses, permits, loans, or grants.

Authorization or Appropriation Requests: OPDIVs/STAFFDIVs shall indicate in any requests for new authorizations or appropriations whether the proposed action is in accord with Executive Order 13690 if the proposed action will be in a floodplain.

Guidance: The following resources provides guidance for Implementation of FFRMS.

FFRMS Floodplain Determination Job Aid, Version 1.0, August 2023.

Reducing Flood Losses through the International Codes: Coordinating Building Codes and Floodplain Management Regulations, 5th Edition, September 2019.

Protecting Building Utility Systems from Flood Damage: Principles and Practices for the Design and Construction of Flood Resistant Building Utility Systems, Federal Emergency Management Agency (FEMA) P-348, Edition 2, February 2017.

Cheryl R. Campbell,
Assistant Secretary for Administration.

[FR Doc. 2024-09335 Filed 4-30-24; 8:45 am]

BILLING CODE 4150-24-P